DEPARTMENT OF HEALTH AND HUMAN SERVICES

Centers for Medicare and Medicaid Services

[Document Identifier: CMS-R-53; CMS-10102]

Agency Information Collection Activities: Proposed Collection; Comment Request

Agency: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Imposition of Cost Sharing Charges Under Medicaid and Supporting Regulations contained in 42 CFR 447.53; Form No.: CMS-R-53 (OMB# 0938-0429); Use: The information collection requirements contained in 42 CFR 447.53 require the States to include in their Medicaid State Plan their cost sharing provisions for the medically and categorically needy. The State Plan is the method in which States inform staff of State policies, standards, procedures and instructions; Frequency: Occasionally; Affected Public: State, local or tribal government; Number of Respondents: 54; Total Annual Responses: 20; Total Annual Hours: 2,700.

2. Type of Information Collection Request: New collection; Title of Information Collection: National Implementation of Hospital CAHPS (HCAHPS); Form No.: CMS-10102 (OMB# 0938-NEW); Use: The HCAHPS survey instrument, developed under the CAHPS umbrella, is a reliable and valid instrument that any organization can use (at no cost) to obtain patient data about hospital experiences. This tool will be adopted by the Quality Initiative: A Public Resource on Hospital Performance. Though the main purposes of this survey are consumer choice and hospital accountability, we intend and expect that the collection and reporting of these data will stimulate quality improvements. A standardized hospital survey from the patient's perspective will generate both universal measures and comparative data for consumers who need to select a hospital, and a new incentive for hospitals to further improve quality of care and accountability. This standardized instrument will allow consumers to make “apples to apples” comparisons among hospitals, allow hospitals and hospital chains to self compare, and provide state oversight officials with useful data; Frequency: Annually; Affected Public: Individuals or households; Number of Respondents: 2,212,000; Total Annual Responses: 2,212,000; Total Annual Hours: 368,367.

To obtain copies of the supporting statement and any related forms for the proposed paperwork collections referenced above, access CMS's Web site address at http://cms.hhs.gov/regulations/pra/default.asp, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Melissa Musotto, Room C5-14-03, 7500 Security Boulevard, Baltimore, Maryland 21244-1850.

Dated: November 26, 2003.
Julie Brown,
Acting, Reports Clearance Officer, Office of Strategic Operations and Strategic Affairs, Division of Regulations Development and Issuances.

[FR Doc. 03-30200 Filed 12-4-03; 8:45 am]

BILLING CODE 4120-03-P